DEPARTMENT OF TRANSPORTATION

Federal Aviation Administration

Intent To Prepare an Environmental Assessment; Panama City-Bay County International Airport; Panama City, FL

AGENCY: Federal Aviation Administration, DOT.

ACTION: Notice of intent.

SUMMARY: The Federal Aviation Administration (FAA) is issuing this notice to advertise to the public that an Environmental Assessment (EA) will be prepared to consider alternatives to meet forecast growth in aviation demand in the Panama City-Bay County region.

FOR FURTHER INFORMATION CONTACT: Ms. Virginia Lane, Federal Aviation Administration, Orlando Airports District Office, 5950 Hazeltine National Drive, Suite 400, Orlando, FL 32822-5024, 407/812-6331, Extension 29.

SUPPLEMENTARY INFORMATION: The FAA intends to prepare an Environmental Assessment (EA) to address environmental and related impacts expected to be associated with meeting forecast growth in aviation demand in the Panama City-Bay County region.

The EA will be developed, prepared, and processed such that it can be converted to an Environmental Impact Statement (EIS) in a timely fashion, should the EA indicate that the project will likely result in significant environmental impacts and that a Finding of No Significant Impact (FONSI) is not appropriate.

The Panama City-Bay County International Airport (PFN), owned and operated by the Panama City-Bay County Airport and Industrial District, is located approximately five miles northwest of he central business district of Panama City, Florida. PFN has two 150-foot wide runways, Runway 5-23 and Runway 14-32. Runway 5-23 measures 4,888 feet in length and is primarily used by general aviation aircraft. Runway 14-32, with a length of 6,304 feet, serves as the primary runway for commercial airline service at PFN.

During the 1990's, an Environmental Assessment was initiated to consider alternatives to provide an 8,000-foot runway at PFN. This study recommended an extension of Runway 14-32 to the northwest into Goose Bayou to provide additional runway length. However, the proposed runway extension would have environmental impacts to Class II waters that are protected under state law. Due to opposition to the runway extension, the Environmental Assessment was deferred in 1998.

With support from the Federal Aviation Administration (FAA) and the Florida Department of Transportation (FDOT)), the Panama City-Bay County International Airport Authority initiated an effort to study the feasibility of relocating or expanding the airport facilities in 1999. The Airport Feasibility Study resulted in a determination that relocation of the airport was technically feasible.

This Environmental Assessment (EA) will include evaluation of a no action alternative and other reasonable alternatives that may be identified during the agency and public scoping meetings.

Public Scoping: Although formal scoping is not required for an EA, public and agency scoping sessions will be conducted at the initiation of the EA. This action is being conducted to help to identify the scope of issues to be addressed, assist in the identification of alternatives, and aid in the identification of any potentially significant issues related to the proposed action.

The FAA will hold a scoping meeting to solicit input from Federal, State, and local agencies which have jurisdiction by law or have a specific expertise with respect to any environmental impacts associated with the project. In addition, a public scoping meeting will be held and the public may submit written comments on the scope of the environmental study to the address identified in the FOR FURTHER INFORMATION CONTACT paragraph. A separate Public Notice will be issued to provide the date, time and place of the scoping meetings and the period for written comments.

Questions may be directed to the individual named above under the heading FOR FURTHER INFORMATION CONTACT.

Issued in Orlando, Florida, October 30, 2001.
John W. Reynolds,
Acting Manager, Orlando Airports Districts Office.

[FR Doc. 01-27992 Filed 11-6-01; 8:45 am]

BILLING CODE 4910-62-M